DEPARTMENT OF TRANSPORTATION

Federal Aviation Administration

14 CFR Part 39

[Docket No. FAA-2008-0644; Directorate Identifier 2007-NM-321-AD; Amendment 39-15659; AD 2008-18-02]

RIN 2120-AA64

Airworthiness Directives; BAE Systems (Operations) Limited (Jetstream) Model 4101 Airplanes

AGENCY: Federal Aviation Administration (FAA), Department of Transportation (DOT).

ACTION: Final rule.

SUMMARY: The FAA is superseding an existing airworthiness directive (AD), which applies to all BAE Systems (Operations) Limited (Jetstream) Model 4101 airplanes. That AD currently requires repetitive tests for free movement of the capsule/bearing of the nose landing gear (NLG), and related investigative and corrective actions. This new AD requires a modified test for free movement of the capsule/bearing of the NLG at reduced repeat intervals, and replacement of the NLG assembly with a modified assembly. This AD results from additional reports of the NLG failing to extend fully on an airplane that had been inspected in accordance with AD 2004-14-07. We are issuing this AD to prevent failure of the NLG to extend fully, which could result in reduced controllability of the airplane during landing.

DATES: This AD becomes effective March 27, 2009.

The Director of the Federal Register approved the incorporation by reference of certain publications listed in the AD as of March 27, 2009.

On August 13, 2004 (69 FR 41413, July 9, 2004), the Director of the Federal Register approved the incorporation by reference of BAE Systems (Operations) Limited Alert Service Bulletin J41-A32-082, Revision 1, dated February 20, 2004.

ADDRESSES: For BAE Systems (Operations) Limited service information identified in this AD, contact BAE Systems Regional Aircraft, 13850 McLearen Road, Herndon, Virginia 20171; telephone 703-736-1080; e-mail raebusiness@baesystems.com; Internet http://www.baesystems.com/Businesses/RegionalAircraft/index.htm.

For APPH service information identified in this AD, contact APPH Ltd., Engineering Division, Unit 1, 8 Pembroke Court, Manor Park, Runcorn WA7 1TG, England; telephone +44 01928 532600; fax +44 01928 579626; e-mail sales@apphltd.co.uk; Internet http://www.apph.co.uk/home.html.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

The FAA issued a notice of proposed rulemaking (NPRM) to amend 14 CFR part 39 to include an AD that supersedes AD 2004-14-07, amendment 39-13716 (69 FR 41413, July 9, 2004). The existing AD applies to all BAE Systems (Operations) Limited (Jetstream) Model 4101 airplanes. That NPRM was published in the Federal Register on June 20, 2008 (73 FR 35089). That NPRM proposed to continue to require repetitive tests for free movement of the capsule/bearing of the nose landing gear (NLG), and related investigative and corrective actions. That NPRM also proposed to require a modified test for free movement of the capsule/bearing of the NLG at reduced repeat intervals, and replacement of the NLG assembly with a modified assembly.

Comments

We provided the public the opportunity to participate in the development of this AD. No comments have been received on the NPRM or on the determination of the cost to the public.

Explanation of Changes Made to This AD

This AD retains all of the proposed requirements of the NPRM. We have revised the format of this AD according to guidelines regarding service information references provided to us by the Office of the Federal Register. To meet those guidelines, we have removed paragraph (f), “Service Bulletin References and Clarifications,” and (f)(1), of the NPRM. We have, instead, spelled out the applicable service bulletin in each paragraph of this AD. As a result, the corresponding paragraph identifiers have changed in this AD, as listed in the table titled “Revised Paragraph Identifiers.” For clarity, we have also added certain paragraph headers to this AD.

Revised Paragraph Identifiers
Proposed requirement in the NPRM | Corresponding requirement in this AD
Paragraph (f) | removed.
Paragraph (f)(1) | removed.
Paragraph (f)(2) | paragraph (f).
Paragraph (f)(3) | paragraph (h).
Paragraph (f)(4) | paragraph (i).
Paragraph (f)(5) | paragraph (j).
Paragraph (f)(6) | paragraph (k).
Paragraph (f)(7) | paragraph (g).
Paragraph (g) | paragraph (l).
Paragraph (h) | paragraph (m).
Paragraph (i) | paragraph (n).
Paragraph (j) | paragraph (o).
Paragraph (k) | paragraph (p).
Paragraph (l) | paragraph (q).
Paragraph (m) | paragraph (r).
Paragraph (n) | paragraph (s).

Conclusion

We have carefully reviewed the available data, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Testing for free movement of the NLG capsule/bearing (required by AD 2004-14-07) | 6 | $80 | $0 | $480, per cleaning, lubrication, and inspection cycle | 7 | $3,360, per cleaning, lubrication, and inspection cycle.
Cleaning, lubrication, and inspecting for free movement of the NLG capsule/bearing (new required action) | 6 | 80 | 10 | $490, per cleaning, lubrication, and inspection cycle | 7 | $3,430, per cleaning, lubrication, and inspection cycle.
NLG assembly replacement | 6 | 80 | 3,100 | $3,580 | 7 | $25,060.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13716 (69 FR 41413, July 9, 2004) and by adding the following new airworthiness directive (AD):

2008-18-02 BAE Systems (Operations) Limited (Formerly British Aerospace Regional Aircraft): Amendment 39-15659. Docket No. FAA-2008-0644; Directorate Identifier 2007-NM-321-AD.

Effective Date

(a) This AD becomes effective March 27, 2009.

Affected ADs

(b) This AD supersedes AD 2004-14-07.

Applicability

(c) This AD applies to all BAE Systems (Operations) Limited Model Jetstream 4101 airplanes, certificated in any category.

Unsafe Condition

(d) This AD results from additional reports of the nose landing gear (NLG) failing to extend fully on an airplane that had been inspected in accordance with AD 2004-14-07. We are issuing this AD to prevent failure of the NLG to extend fully, which could result in reduced controllability of the airplane during landing.

Compliance

(e) You are responsible for having the actions required by this AD performed within the compliance times specified, unless the actions have already been done.

Restatement of the Requirements of AD 2004-14-07 (Reformatted)

Additional Sources of Service Information

(f) BAE Systems (Operations) Limited Alert Service Bulletin J41-A32-082, Revision 1, dated February 20, 2004, refers to APPH Service Bulletin AIR83586-32-22, Revision 1, dated February 2004, as an additional source of service information for accomplishing the actions in BAE Systems (Operations) Limited Alert Service Bulletin J41-A32-082, Revision 1, dated February 20, 2004. BAE Systems (Operations) Limited Alert Service Bulletin J41-A32-082, Revision 3, dated March 30, 2007, refers to APPH Service Bulletin AIR83586-32-22, Revision 3, dated December 2006, as an additional source of service information for accomplishing the actions in BAE Systems (Operations) Limited Alert Service Bulletin J41-A32-082, Revision 3, dated March 30, 2007.

(g) BAE Systems (Operations) Limited Service Bulletin J41-A32-084, dated November 30, 2005, refers to APPH Service Bulletin AIR83586-32-25, dated October 2005, as an additional source of service information for accomplishing the actions in BAE Systems (Operations) Limited Service Bulletin J41-A32-084, dated November 30, 2005.

Credit for Actions Done Using Previous Issues of the Service Information

(h) Actions accomplished before the effective date of this AD per the Accomplishment Instructions of BAE Systems (Operations) Limited Alert Service Bulletin J41-A32-082, dated February 11, 2004; BAE Systems (Operations) Limited Alert Service Bulletin J41-A32-082, Revision 1, dated February 20, 2004; or BAE Systems (Operations) Limited Alert Service Bulletin J41-A32-082, Revision 2, dated November 25, 2005; are considered acceptable for the corresponding actions required by this AD. (BAE Systems (Operations) Limited Alert Service Bulletin J41-A32-082, Revision 2, dated November 25, 2005, refers to APPH Service Bulletin AIR83586-32-22, Revision 2, dated October 2005, as an additional source of service information for accomplishing the actions in BAE Systems (Operations) Limited Alert Service Bulletin J41-A32-082, Revision 2, dated November 25, 2005.)

Contacting the FAA Instead of the Manufacturer for Repair Instructions

(i) Where BAE Systems (Operations) Limited Alert Service Bulletin J41-A32-082, Revision 1, dated February 20, 2004; BAE Systems (Operations) Limited Alert Service Bulletin J41-A32-082, Revision 3, dated March 30, 2007; and APPH Service Bulletin AIR83586-32-22, Revision 1, dated February 2004; specify to contact BAE Systems or APPH for repair instructions: Before further flight, repair per a method approved by the Manager, International Branch, ANM-116, FAA, Transport Airplane Directorate; the Civil Aviation Authority (CAA) (or its delegated agent); or the European Aviation Safety Agency (EASA) (or its delegated agent).

Clarification of the Term “Flying Hours”

(j) Where the flow chart in BAE Systems (Operations) Limited Alert Service Bulletin J41-A32-082, Revision 1, dated February 20, 2004; or BAE Systems (Operations) Limited Alert Service Bulletin J41-A32-082, Revision 3, dated March 30, 2007; specifies “flying hours,” for the purposes of this AD, this term means “flight hours.”

Reporting Not Required by This AD

(k) Where BAE Systems (Operations) Limited Alert Service Bulletin J41-A32-082, Revision 1, dated February 20, 2004; or BAE Systems (Operations) Limited Alert Service Bulletin J41-A32-082, Revision 3, dated March 30, 2007; specifies to complete a reporting form and return it to the manufacturer, this AD does not require that action.

Initial Test

(l) Within 300 flight cycles or 30 days after August 13, 2004 (the effective date of AD 2004-14-07), whichever occurs first: Perform a test for free movement of the NLG capsule/bearing, as specified in the flow chart following paragraph 1.M. of BAE Systems (Operations) Limited Alert Service Bulletin J41-A32-082, Revision 1, dated February 20, 2004; or the flow chart following paragraph 1.N. of BAE Systems (Operations) Limited Alert Service Bulletin J41-A32-082, Revision 3, dated March 30, 2007. After the effective date of this AD, only BAE Systems (Operations) Limited Alert Service Bulletin J41-A32-082, Revision 3, dated March 30, 2007, may be used to perform the test for free movement. Do all of the actions per the Accomplishment Instructions of BAE Systems (Operations) Limited Alert Service Bulletin J41-A32-082, Revision 1, dated February 20, 2004; or BAE Systems (Operations) Limited Alert Service Bulletin J41-A32-082, Revision 3, dated March 30, 2007. After the effective date of this AD, only BAE Systems (Operations) Limited Alert Service Bulletin J41-A32-082, Revision 3, dated March 30, 2007, may be used.

Note 1: As specified in the flow chart following paragraph 1.M. of BAE Systems (Operations) Limited Alert Service Bulletin J41-A32-082, Revision 1, dated February 20, 2004, only the actions in paragraph 2.A. (Part 1) of the Accomplishment Instructions of APPH Service Bulletin AIR83586-32-22, Revision 1, dated February 2004, are required by paragraph (l) of this AD.

Related Investigative, Significant, and Corrective Actions

(m) Perform related investigative, significant, and corrective actions as specified in and at the compliance times specified in the flow chart following paragraph 1.M. of BAE Systems (Operations) Limited Alert Service Bulletin J41-A32-082, Revision 1, dated February 20, 2004; or following paragraph 1.N. of BAE Systems (Operations) Limited Alert Service Bulletin J41-A32-082, Revision 3, dated March 30, 2007. Do all of the actions per the Accomplishment Instructions of BAE Systems (Operations) Limited Alert Service Bulletin J41-A32-082, Revision 1, dated February 20, 2004; or BAE Systems (Operations) Limited Alert Service Bulletin J41-A32-082, Revision 3, dated March 30, 2007; except as provided by paragraph (k) of this AD. During any test, if the movement of the capsule/bearing is restricted, the applicable corrective actions must be accomplished before further flight. After the effective date of this AD, only BAE Systems (Operations) Limited Alert Service Bulletin J41-A32-082, Revision 3, dated March 30, 2007, may be used.

Parts Installation

(n) As of August 13, 2004, no person may install an NLG on any airplane unless it has been inspected in accordance with the requirements of paragraphs (l) and (m) of this AD.

New Requirements of This AD

Repetitive Cleanings, Lubrications, and Inspections for Free Movement of the NLG Capsule

(o) Within 400 flight hours after the effective date of this AD, or within 800 flight hours after the last test done in accordance with paragraph (l) of this AD, whichever is later, but not exceeding 3,000 flight hours after the last test done in accordance with paragraph (l) of this AD; and before further flight after each scheduled or unscheduled NLG replacement: Clean, lubricate, and inspect for free movement of the NLG capsule/bearing in accordance with the Accomplishment Instructions and the flow chart provided in paragraph 1.N. of BAE Systems (Operations) Limited Alert Service Bulletin J41-A32-082, Revision 3, dated March 30, 2007.

(1) For NLG capsules that have adequate free movement: At the applicable interval specified in paragraphs (o)(1)(i) and (o)(1)(ii) of this AD, repeat the cleaning, lubrication, and inspection for free movement of the NLG capsule/bearing, in accordance with the Accomplishment Instructions and the flow chart provided in paragraph 1.N. of BAE Systems (Operations) Limited Alert Service Bulletin J41-A32-082, Revision 3, dated March 30, 2007.

(i) For airplanes on which the modification specified in BAE Systems (Operations) Limited Service Bulletin J41-A32-084, dated November 30, 2005 (Modification JM41670), has not been accomplished, repeat the actions specified in paragraph (o)(1) of this AD at intervals not to exceed 800 flight hours after the last inspection done in accordance with paragraph (o) of this AD.

(ii) For airplanes on which the modification specified in BAE Systems (Operations) Limited Service Bulletin J41-A32-084, dated November 30, 2005 (Modification JM41670), has been accomplished, repeat the actions specified in paragraph (o)(1) of this AD at intervals not to exceed 3,000 flight hours after the last inspection done in accordance with paragraph (o) of this AD.

(2) For NLG capsules that do not have adequate free movement: Before further flight, replace the NLG assembly with a serviceable assembly in accordance with the Accomplishment Instructions and the flow chart provided in paragraph 1.N. of BAE Systems (Operations) Limited Alert Service Bulletin J41-A32-082, Revision 3, dated March 30, 2007. Thereafter, repeat the actions specified in paragraph (o) of this AD at the applicable interval specified in paragraph (o)(1) of this AD.

Replace the NLG Assembly With a Modified NLG Assembly

(p) Within 48 months after the effective date of this AD: Replace the NLG assembly with a modified assembly, in accordance with BAE Systems (Operations) Limited Service Bulletin J41-32-084, dated November 30, 2005. Thereafter, repeat the actions specified in paragraph (o) of this AD at the applicable interval specified in paragraph (o)(1) of this AD.

Parts Installation

(q) As of the effective date of this AD, no person may install a NLG on any airplane unless it has been inspected in accordance with paragraph (o) of this AD.

Alternative Methods of Compliance (AMOCs)

(r) The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your appropriate principal inspector (PI) in the FAA Flight Standards District Office (FSDO), or lacking a PI, your local FSDO.

Related Information

(s) European Aviation Safety Agency airworthiness directive 2006-0131, dated May 18, 2006, also addresses the subject of this AD.

Material Incorporated by Reference

(t) You must use the applicable service information specified in Table 1 of this AD to perform the actions that are required by this AD, unless the AD specifies otherwise.

Table 1—All Material Incorporated by Reference
Service information | Revision level | Date
APPH Service Bulletin AIR83586-32-22 | 1 | February 2004.
APPH Service Bulletin AIR83586-32-22 | 3 | December 2006.
APPH Service Bulletin AIR83586-32-25 | Original | October 2005.
BAE Systems (Operations) Limited Alert Service Bulletin J41-A32-082 | 1 | February 20, 2004.
BAE Systems (Operations) Limited Alert Service Bulletin J41-A32-082 | 3 | March 30, 2007.
BAE Systems (Operations) Limited Service Bulletin J41-32-084 | Original | November 30, 2005.

(1) The Director of the Federal Register approved the incorporation by reference of service information specified in Table 2 of this AD; in accordance with 5 U.S.C. 552(a) and 1 CFR part 51.

Table 2—New Material Incorporated by Reference
Service information | Revision level | Date
APPH Service Bulletin AIR83586-32-22 | 1 | February 2004.
APPH Service Bulletin AIR83586-32-22 | 3 | December 2006.
APPH Service Bulletin AIR83586-32-25 | Original | October 2005.
BAE Systems (Operations) Limited Alert Service Bulletin J41-A32-082 | 3 | March 30, 2007.
BAE Systems (Operations) Limited Service Bulletin J41-32-084 | Original | November 30, 2005.

(2) On August 13, 2004 (69 FR 41413, July 9, 2004), the Director of the Federal Register approved the incorporation by reference of BAE Systems (Operations) Limited Alert Service Bulletin J41-A32-082, Revision 1, dated February 20, 2004.

(3) For service information identified in this AD, contact the following manufacturers, as applicable.

(i) BAE Systems Regional Aircraft, 13850 McLearen Road, Herndon, Virginia 20171; telephone 703-736-1080; e-mail raebusiness@baesystems.com; Internet http://www.baesystems.com/Businesses/RegionalAircraft/index.htm.

(ii) APPH Ltd., Engineering Division, Unit 1, 8 Pembroke Court, Manor Park, Runcorn WA7 1TG, England; telephone +44 01928 532600; fax +44 01928 579626; e-mail sales@apphltd.co.uk; Internet http://www.apph.co.uk/home.html.

(4) You may review copies of the service information that is incorporated by reference at the FAA, Transport Airplane Directorate, 1601 Lind Avenue, SW., Renton, Washington. For information on the availability of this material at the FAA, call 425-227-1221 or 425-227-1152.

(5) You may also review copies of the service information at the National Archives and Records Administration (NARA). For information on the availability of this material at NARA, call 202-741-6030, or go to: http://www.archives.gov/federal_register/code_of_federal_regulations/ibr_locations.html.

Issued in Renton, Washington, on January 9, 2009.
Stephen P. Boyd,
Assistant Manager, Transport Airplane Directorate, Aircraft Certification Service.

[FR Doc. E9-3265 Filed 2-19-09; 8:45 am]

BILLING CODE 4910-13-P